DELAWARE RIVER BASIN COMMISSION

Notice of Commission Meeting and Public Hearing

Notice is hereby given that the Delaware River Basin Commission will hold a public hearing on Wednesday, September 21, 2011 at the West Trenton Volunteer Fire Company, located at 40 West Upper Ferry Road, West Trenton, New Jersey. The hearing will be part of the Commission's regularly scheduled business meeting, which is open to the public.

The public hearing to be held during the 1:30 p.m. business meeting will NOT include dockets related to natural gas development projects, nor will the Commissioners consider action on the Draft Natural Gas Development Regulations (“draft regulations”) published for comment on December 9, 2010, on the Commission's Web site. Commission consideration of the draft regulations will occur at a special public meeting to be held on October 21, 2011 at 1 p.m. in the Patriots Theater at the War Memorial, located at One Memorial Drive in Trenton, New Jersey. The Commission accepted written comment on the draft regulations through April 15, 2011 and received oral comment during six public hearing sessions in February 2011. The Commissioners and staff are currently reviewing the voluminous comments received (many of which are available for review at drbc.net). The public meeting on October 21 will not include a public hearing. Additional information about the October 21, 2011 meeting will be published separately.

Items for Public Hearing. The subjects of the public hearing to be held during the 1:30 p.m. business meeting on September 21, 2011 include 25 draft dockets, for which the names and brief descriptions are posted on the Commission's website at drbc.net. The draft dockets can be accessed on the website ten days prior to the meeting date. Additional public records relating to the dockets may be examined at the Commission's offices. Please contact William Muszynski at 609-883-9500, extension 221, with any docket-related questions.

A public hearing also will be held during the 1:30 p.m. business meeting on a resolution authorizing the Executive Director to enter into a contract with The Nature Conservancy for a study of instream flow needs to protect key ecological communities for the range of habitats in the Delaware Basin.

The public is advised that items scheduled for hearing are occasionally postponed to allow more time for the Commissioners to consider them. Please check the Commission's Web site, drbc.net, closer to the meeting date for changes that may be made after the deadline for filing this notice.

Other Agenda Items. In addition to the standard business meeting items, consisting of adoption of the Minutes of the Commission's June 28 and July 13, 2011 business meetings, announcements of upcoming meetings and events, a report on hydrologic conditions, reports by the Executive Director and the Commission's General Counsel, public hearings and public dialogue, the business meeting also will include the annual staff report on implementation of the Water Resources Plan for the Delaware River Basin.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P. O. Box 7360, 25 State Police Drive, West Trenton, NJ 08628; by fax to Commission Secretary, DRBC at 609-883-9522 or by e-mail to paula.schmitt@drbc.state.nj.us. Written comment on dockets should also be furnished directly to the Project Review Section at the above address or fax number or by e-mail to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Dated: August 30, 2011.
Pamela M. Bush, Esquire,
Commission Secretary.

[FR Doc. 2011-22642 Filed 9-6-11; 8:45 am]

BILLING CODE 6360-01-P